DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: FEMA's Excess Federal Real Property Program Application.

Type of Information Collection: New.

Abstract: GSA provides announcements to FEMA, and to State and local governments, concerning available Federal surplus real property for emergency management response use purposes including fire and rescue services. An applicant must notify the disposal agency such as GSA Regional and Headquarters offices, or the Department of Defense (DOD) Base Realignment Closure (BRAC) offices, and FEMA Regional and Headquarters offices of its intent to acquire the property. The notification should occur within 20 days after notification of property availability. States, the District of Columbia, any territory or possession of the United States, or any political subdivision or instrumentality thereof, may apply for the transfer or conveyance of surplus real property for emergency management response use purposes. An applicant must formally submit a completed FEMA Excess Federal Real Property Program application including supporting documentation to FEMA. After receiving this information, FEMA will then determine if the requested excess Federal real property is required for emergency management response use. The application process is designed to ensure that the applicant's proposed use of the Federal real property is for emergency management use as an integral part of applicable State and local government plans. The completed application form is designed to ensure that the applicant conforms to GSA and DOD regulatory conditions.

Affected Public: State, Local, or Tribal Governments.

Number of Respondents: 1.

Estimated Time per Respondent: 3 hours.

Estimated Total Annual Burden Hours: 3 hours.

Frequency of Response: On occasion.

Comments: Interested persons are invited to submit written comments within 30 days of the date of this notice on the proposed information collection to the FEMA Desk Officer at the Office of Management and Budget (OMB) at e-mail address David_Rostker@omb.eop.gov.

FOR FURTHER INFORMATION CONTACT: Requests for additional information or copies of the information collection should be sent to Muriel B. Anderson, Chief, Records Management Branch, Information Resources Management Division, Information Technology Services Directorate, Federal Emergency Management Agency at e-mail address Information.Collections@fema.gov.

Dated: November 13, 2003.
Edward W. Kernan,
Division Director, Information Resources Management Division, Information Technology Services Directorate.

[FR Doc. 03-29291 Filed 11-21-03; 8:45 am]

BILLING CODE 9110-07-P